DEPARTMENT OF TRANSPORTATION

Federal Aviation Administration

14 CFR Part 39

[Docket No. FAA-2012-0982; Directorate Identifier 2012-CE-035-AD; Amendment 39-17272; AD 2012-24-02]

RIN 2120-AA64

Airworthiness Directives; Stemme GmbH & Co. KG Powered Sailplanes

AGENCY: Federal Aviation Administration (FAA), Department of Transportation (DOT).

ACTION: Final rule.

SUMMARY: We are adopting a new airworthiness directive (AD) for all Stemme GmbH & Co. KG Models S10, S10-V, and S10-VT powered sailplanes. This AD results from mandatory continuing airworthiness information (MCAI) issued by an aviation authority of another country to identify and correct an unsafe condition on an aviation product. The MCAI describes the unsafe condition as unapproved rubber hoses installed in the engine fuel, oil, and cooling systems, which could lead to a system leak and result in an engine fire. We are issuing this AD to require actions to address the unsafe condition on these products.

DATES: This AD is effective January 7, 2013.

The Director of the Federal Register approved the incorporation by reference of certain publications listed in the AD as of January 7, 2013.

ADDRESSES: You may examine the AD docket on the Internet at http://www.regulations.gov or in person at Document Management Facility, U.S. Department of Transportation, Docket Operations, M-30, West Building Ground Floor, Room W12-140, 1200 New Jersey Avenue SE., Washington, DC 20590.

For service information identified in this AD, contact STEMME AG, Flugplatzstrasse F2, Nr. 7 15344 Strausberg, Germany; telephone: +49 (0) 3341 3612-0, fax: +49 (0) 3341 3612-30; Internet: http://www.stemme.de/daten/e/index.html. You may review copies of the referenced service information at the FAA, Small Airplane Directorate, 901 Locust, Kansas City, Missouri 64106. For information on the availability of this material at the FAA, call (816) 329-4148.

FOR FURTHER INFORMATION CONTACT: Jim Rutherford, Aerospace Engineer, FAA, Small Airplane Directorate, 901 Locust, Room 301, Kansas City, Missouri 64106; telephone: (816) 329-4165; fax: (816) 329-4090; email: jim.rutherford@faa.gov.

SUPPLEMENTARY INFORMATION:

Discussion

We issued a notice of proposed rulemaking (NPRM) to amend 14 CFR part 39 to include an AD that would apply to the specified products. That NPRM was published in the Federal Register on September 18, 2012 (77 FR 57531). That NPRM proposed to correct an unsafe condition for the specified products. The MCAI states:

An occurrence has been reported of an engine fire during ground run of a S10-VT powered sailplane. The investigation results indicated that an unapproved fuel hose was installed in the engine fuel system of that aeroplane. Subsequent survey of some N-registered S 10 aeroplanes revealed more cases of installation of unapproved fuel, oil and cooling hoses on sailplanes engine systems.

This condition, if not detected and corrected, could lead to a system leak with subsequent engine fire, possibly resulting in damage to the sailplane and/or injury of occupants.

Prompted by these findings, Stemme GmbH developed a procedure for identification of these hoses, to have them removed from service.

For the reasons described above, this AD requires a one-time review of the sailplane's maintenance records to determine whether a serviceable engine hose kit for fuel, oil and cooling systems has been installed and, depending on findings, replacement of the affected hoses with serviceable parts.

You may obtain further information by examining the MCAI in the AD docket.

Comments

We gave the public the opportunity to participate in developing this AD. We received no comments on the NPRM (77 FR 57531, September 18, 2012) or on the determination of the cost to the public.

Conclusion

We reviewed the relevant data and determined that air safety and the public interest require adopting the AD as proposed except for minor editorial changes. We have determined that these minor changes:

• Are consistent with the intent that was proposed in the NPRM (77 FR 57531, September 18, 2012) for correcting the unsafe condition; and

• Do not add any additional burden upon the public than was already proposed in the NPRM (77 FR 57531, September 18, 2012).

Costs of Compliance

We estimate that this AD will affect 63 products of U.S. registry. We also estimate that it will take about .5 work-hour per product to comply with the basic requirements of this AD. The average labor rate is $85 per work-hour.

Based on these figures, we estimate the cost of this AD on U.S. operators to be $2,677.50, or $42.50 per product.

In addition, we estimate that any necessary follow-on actions will take about 8 work-hours and require parts costing $1,957, for a cost of $2,637 per product for Models S10 and S10-V. We also estimate that any necessary follow-on actions will take about 16 work-hours and require parts costing $1,311, for a cost of $2,671 per product for Model S10-VT. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-24-02 Stemme GmbH & Co. KG: Amendment 39-17272; Docket No. FAA-2012-0982; Directorate Identifier 2012-CE-035-AD.

(a) Effective Date

This airworthiness directive (AD) becomes effective January 7, 2013.

(b) Affected ADs

None.

(c) Applicability

This AD applies to Stemme GmbH & Co. KG Models S10, S10-V, and S10-VT powered sailplanes, all serial numbers, certificated in any category.

(d) Subject

Air Transport Association of America (ATA) Code 71: Powerplant.

(e) Reason

This AD was prompted by mandatory continuing airworthiness information (MCAI) originated by an aviation authority of another country to identify and correct an unsafe condition on an aviation product. The MCAI describes the unsafe condition as unapproved rubber hoses installed in the engine fuel, oil, and cooling systems. We are issuing this AD to prevent a system leak, which could lead to an engine fire.

(f) Actions and Compliance

Unless already done, do the following actions:

(1) If, on January 7, 2013 (the effective date of this AD), the date of manufacture of the sailplane is less than five years old, before further flight after January 7, 2013 (the effective date of this AD), review the sailplane's maintenance records/logbook for evidence as to whether the engine fuel, oil, and cooling systems rubber hoses have been replaced since new. Based on this review, if:

(i) There is no maintenance records/logbook evidence, i.e. logbook entry, that the engine fuel, oil, and cooling systems rubber hoses have been replaced since new, before further flight, make a logbook entry showing compliance with this AD.

(ii) There is maintenance records/logbook evidence, i.e. logbook entry, that the engine fuel, oil, and/or cooling systems rubber hoses have been replaced since new, before further flight, review the sailplane's maintenance records/logbook for current documentation of hose conformity through a Declaration of Conformity (DoC) or a European Aviation Safety Agency (EASA) Form 1.

(A) If you can find current documentation of a DoC or an EASA Form 1, before further flight, make a logbook entry showing compliance with this AD.

(B) If you cannot find current documentation of a DoC or an EASA Form 1, before further flight, replace the affected hose(s) with FAA-approved serviceable hoses following Stemme F & D Installation Instruction A34-10-093-01, dated August 13, 2012; or Stemme F & D Installation Instruction A34-10-093-02, dated August 13, 2012, as applicable.

(2) If, on January 7, 2013 (the effective date of this AD), the date of manufacture of the sailplane is five years old or older, before further flight after January 7, 2013 (the effective date of this AD), review the sailplane's maintenance records/logbook for evidence of the date the engine fuel, oil, and cooling systems rubber hoses were last replaced and for documentation of hose conformity through a DoC or a EASA Form 1. Based on this review, if:

(i) There is maintenance records/logbook evidence, i.e. logbook entry, that the installed engine fuel, oil, and cooling systems rubber hoses are less than five years old and there is current documentation of hose conformity with a DoC or an EASA Form 1, before further flight, make a logbook entry showing compliance with this AD.

(ii) There is maintenance records/logbook evidence, i.e. logbook entry, that the installed engine fuel, oil, and cooling systems rubber hoses are less than five years old, but there is no current documentation of hose conformity with a DoC or an EASA Form 1, before further flight, replace the affected hoses with FAA-approved serviceable hoses following Stemme F & D Installation Instruction A34-10-093-01, dated August 13, 2012; or Stemme F & D Installation Instruction A34-10-093-02, dated August 13, 2012, as applicable.

(iii) There is maintenance records/logbook evidence, i.e. logbook entry, that the installed engine fuel, oil, and cooling systems rubber hoses are five years old or more than five years old, before further flight, replace the hoses with FAA-approved serviceable hoses following Stemme F & D Installation Instruction A34-10-093-01, dated August 13, 2012; or Stemme F & D Installation Instruction A34-10-093-02, dated August 13, 2012, as applicable.

(3) As of January 7, 2013 (the effective date of this AD), only install FAA-approved serviceable engine fuel, oil, and cooling systems rubber hoses following Stemme F & D Installation Instruction A34-10-093-01, dated August 13, 2012; or Stemme F & D Installation Instruction A34-10-093-02, dated August 13, 2012, as applicable, and that have a current documentation of hose conformity, i.e., DoC or EASA Form 1.

(g) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any sailplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

Refer to MCAI European Aviation Safety Agency (EASA) AD No. 2012-0154, dated August 17, 2012; Stemme F & D Installation Instruction A34-10-093-01, dated August 13, 2012; and Stemme F & D Installation Instruction A34-10-093-02, dated August 13, 2012, for related information.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Stemme F & D Installation Instruction A34-10-093-01, dated August 13, 2012.

(ii) Stemme F & D Installation Instruction A34-10-093-02, dated August 13, 2012.

(3) For Stemme GmbH & Co. KG service information identified in this AD, contact STEMME AG, Flugplatzstrasse F2, Nr. 7 15344 Strausberg, Germany; telephone: +49 (0) 3341 3612-0, fax: +49 (0) 3341 3612-30; Internet: http://www.stemme.de/daten/e/index.html.

(4) You may view this service information at FAA, FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/index.html.

Issued in Kansas City, Missouri, on November 20, 2012.
John Colomy,
Acting Manager, Small Airplane Directorate, Aircraft Certification Service.

[FR Doc. 2012-28819 Filed 11-30-12; 8:45 am]

BILLING CODE 4910-13-P